DEPARTMENT OF TRANSPORTATION

National Highway Traffic Safety Administration

[Docket No. NHTSA-99-5734; Notice 2]

Decision That Nonconforming 1994-1998 Land Rover Discovery Multi-Purpose Passenger Vehicles Are Eligible for Importation

AGENCY: National Highway Traffic Safety Administration (NHTSA), DOT.

ACTION: Notice of decision by NHTSA that nonconforming 1994-1998 Land Rover Discovery multi-purpose passenger vehicles (MPVs) are eligible for importation.

SUMMARY: This notice announces the decision by NHTSA that 1994-1998 Land Rover Discovery MPVs not originally manufactured to comply with all applicable Federal motor vehicle safety standards are eligible for importation into the United States because they are substantially similar to vehicles originally manufactured for importation into and sale in the United States and certified by their manufacturer as complying with the safety standards (the U.S. certified version of the 1994-1998 Land Rover Discovery), and they are capable of being readily altered to conform to the standards.

DATE: This decision is effective as of the date of its publication in the Federal Register.

FOR FURTHER INFORMATION CONTACT: George Entwistle, Office of Vehicle Safety Compliance, NHTSA (202-366-5306).

SUPPLEMENTARY INFORMATION:

Background

Under 49 U.S.C. § 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. § 30115, and of the same model year as the model of the motor vehicle to be compared, and is capable of being readily altered to conform to all applicable Federal motor vehicle safety standards.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies of Baltimore, Maryland (“J.K.”) (Registered Importer 90-006) petitioned NHTSA to decide whether 1994-1998 Land Rover Discovery MPVs not originally manufactured to conform to all applicable Federal motor vehicle safety standards are eligible for importation into the United States. NHTSA published notice of the petition on June 3, 1999 (64 FR 29938) to afford an opportunity for public comment. The reader is referred to that notice for a thorough description of the petition.

One comment was received in response to the notice of the petition, from Land Rover North America, Inc. (“Land Rover”), the United States representative of the Rover Group, the vehicles’ manufacturer. In this comment, Land Rover identified several modifications beyond those specified in the petition that would be necessary to conform non-U.S. certified 1994-1998 Land Rover Discovery MPVs to all applicable Federal motor vehicle safety standards.

Land Rover stated that non-U.S. certified 1994-1998 Land Rover Discovery MPVs are not equipped with a seat belt warning lamp, and that this component would have to be installed for the vehicles to comply with Standard No. 101, Controls and Displays. Land Rover also noted that in order to comply with Standard No. 101, the vehicles' instrument panel would have to be equipped with a means for adjusting the panel's illumination.

Land Rover also stated that side reflectors would have to be installed on the vehicles to comply with Standard No. 108, Lamps, Reflective Devices, and Associated Equipment. Additionally, Land Rover noted that the vehicles' driver's side rearview mirror would have to be replaced with a flat glass U.S.-model component to comply with Standard No. 111, Rearview Mirrors. Land Rover also stated that a transmission shift interlock and “key in ignition” warning system would have to be installed for the vehicles to comply with Standard No. 114, Theft Protection.

With respect to the requirements of Standard No. 208, Occupant Crash Protection, Land Rover observed that air bag systems are optional in some non-U.S. certified 1994-1998 Land Rover Discovery MPVs. As a consequence, Land Rover stated that some vehicles will require those systems (including sensors, warning lamps, air bags, air bag ECU, and warning harnesses) to be retrofitted, and that this may lead to quality control and subsequent reliability problems. Additionally, Land Rover noted that air bag labels must be molded into the front sun visors of non-U.S. certified 1994-1998 Land Rover Discovery MPVs. Land Rover additionally observed that prior to the 1997 model year, ALR/ELR seat belt retractors were not installed in the front and rear outboard seating positions of non-U.S. certified Land Rover Discovery MPVs.

Land Rover also stated that there are significant differences between U.S. certified and non-U.S. certified 1994-1998 Land Rover Discovery MPVs with respect to compliance with Standard No. 301, Fuel System Integrity. A key difference cited by Land Rover is the addition of a stamped steel stiffening saddle welded to the frame of U.S. certified models to stiffen the fuel tank enclosures so that they may withstand rear impact testing to determine compliance with the standard. Land Rover stated that “this stamped steel frame reinforcement is welded in place by the chassis manufacturer while the frame is mounted in a precise welding jig to ensure proper alignment and straightness.” Land Rover contended that because this reinforcement is not available through the manufacturer's parts system, the entire chassis on a non-U.S. certified model would have to be replaced to achieve compliance with the standard. Land Rover further stated that in addition to the frame stiffener, there is a “unique rear cross-member and integrally welded rear tow hitch that must also be fitted” on non-U.S. certified models to comply with Standard No. 301.

Additionally, Land Rover stated that because diesel powered versions of non-U.S. certified 1994-1998 Land Rover Discovery MPVs have never been certified for sale in the United States, “the entire fuel system including [the] fuel tank assembly may not comply” with Standard No. 301. Land Rover asserted that the petitioner must conduct certification testing to ensure that diesel powered models comply with the standard before they may be imported into the United States.

Land Rover also observed that gasoline powered non-U.S. certified 1994-1998 Land Rover Discovery MPVs are equipped with some fuel system components that differ from those on U.S. certified models. Because Standard No. 301 compliance tests apply to the entire fuel system, Land Rover contended that the entire fuel system on non-U.S. certified vehicles must be modified so that it is materially identical to the fuel system on the U.S.-certified version.

Land Rover also noted that a utility vehicle warning label must be affixed to the driver's sun visor of non-U.S. certified 1994-1998 Land Rover Discovery MPVs to meet the requirements of 49 CFR 575.105, Vehicle Rollover. Additionally, Land Rover contended that the owners manual supplied with non-U.S. certified 1994-1998 Land Rover Discovery MPVs must be replaced with the version supplied with U.S. certified models, because that version contains several Federally required messages and warning statements.

Concluding its comments, Land Rover contended that non-U.S. certified 1994-1998 Land Rover Discovery MPVs are ineligible for importation into the United States because those vehicles are equipped with a chassis that differs significantly from the one on their U.S.-certified counterparts, and that the chassis “cannot be properly modified.”

NHTSA accorded J.K. an opportunity to respond to Land Rover's comments. In its response, J.K. stated, with respect to the Standard No. 101 compliance issues raised by Land Rover, that it will replace the entire instrument cluster during conversion with one that includes all U.S.-model parts and associated systems, including the seatbelt warning systems and adjustable instrument illumination control. With respect to the Standard 108 issue raised by Land Rover, J.K. stated that it will change the bumper ends in the conversion process, and that the U.S. model ends it will install are equipped with marker lights. J.K. additionally stated that all vehicles will be inspected for compliance with Standard No. 111 at the time of importation, and that U.S. model mirror systems will be installed if necessary during the conversion process. Similarly, J.K. stated that all vehicles will be inspected for compliance with Standard No. 114 at the time of importation, and that a transmission interlock switch, which incorporates the key warning micro-switch, will be added to vehicles lacking that device.

J.K. also stated that all vehicles will be inspected for compliance with Standard No. 208 at the time of importation, and that all parts necessary to achieve compliance with that standard will be added during the conversion process. J.K. noted that all parts necessary to conform the vehicles' air bag system to the standard are available through dealers or the original equipment manufacturer, including sensors, warning lamps, air bags, air bag ECU, and warning harnesses. J.K. also stated that air bag labels will be attached to the front sun visors during the conversion process, and that ALR/ELR seat belt retractors will be fitted in 1996 and earlier model year vehicles.

With regard to the Standard No. 301 compliance issues raised by Land Rover, J.K. stated that all frame modifications made by the manufacturer to achieve compliance with that standard can be accomplished in a similar manner during conversion, using a precise welding jig to ensure proper alignment and straightness during installation. Likewise, J.K. asserted that the rear cross-member and integrally welded rear tow hitch receiver modifications applied by the manufacturer can be accomplished during conversion. J.K. also stated that during conversion, all fuel system components will be replaced with U.S. model components to meet EPA requirements, and modified to the same material condition as those on the U.S. certified vehicle. J.K. also stated that all required manuals and labels are added during the conversion process.

NHTSA believes that J.K.'s response adequately addresses the issues that Land Rover has raised regarding the petition. NHTSA further notes that the modifications described by J.K. would not preclude non-U.S. certified 1994-1998 Land Rover Discovery MPVs from being found “capable of being readily altered to comply with applicable motor vehicle safety standards.”

NHTSA has accordingly decided to grant the petition.

Vehicle Eligibility Number for Subject Vehicles

The importer of a vehicle admissible under any final decision must indicate on the form HS-7 accompanying entry the appropriate vehicle eligibility number indicating that the vehicle is eligible for entry. VSP-338 is the vehicle eligibility number assigned to vehicles admissible under this notice of final decision.

Final Decision

Accordingly, on the basis of the foregoing, NHTSA hereby decides that 1994-1998 Land Rover Discovery MPVs that were not originally manufactured to conform to all applicable Federal motor vehicle safety standards are substantially similar to 1994-1998 Land Rover Discovery MPVs originally manufactured for importation into and sale in the United States and certified under 49 U.S.C. 30115, and are capable of being readily altered to conform to all applicable Federal motor vehicle safety standards.

Authority: 49 U.S.C. 30141(a)(1)(A) and (b)(1); 49 CFR 593.8; delegations of authority at 49 CFR 1.50 and 501.8.

Issued on: November 13, 2000.
Marilynne Jacobs,
Director, Office of Vehicle Safety, Compliance.

[FR Doc. 00-29420 Filed 11-16-00; 8:45 am]

BILLING CODE 4910-59-P